DEPARTMENT OF AGRICULTURE

Office of the Secretary

Provincial Advisory Committees Charter Re-Establishment

AGENCY: Office of the Secretary, USDA.

ACTION: Notice of intent to re-establish the Provincial Advisory Committees.

SUMMARY: The Department of Agriculture, in consultation with the Department of the Interior, intends to re-establish the Provincial Advisory Committees (PACs) for the provinces in California, Oregon, and Washington. This re-establishment is in response to the continued need for the PACs to provide advice on coordinating the implementation of the Record of Decision (ROD) of April 13, 1994, for Management of Habitat for Late-Succession and Old-Growth Forest Related Species within the Range of the Northern Spotted Owl. The PACs also provide advice and recommendations to promote integration and coordination of forest management activities between Federal and non-Federal entities.

ADDRESSES: Copies of the April 13, 1994, Record of Decision can be obtained electronically at http://www.reo.gov/library/reports/newsandga.pdf. Paper copies can be obtained from the Office of Strategic Planning, P.O. Box 3623, Portland, OR 97208.

FOR FURTHER INFORMATION CONTACT: Shandra L. Terry, Regional Public Involvement Coordinator, Office of Public and Legislative Affairs, Forest Service, USDA (503) 808-2242.

SUPPLEMENTARY INFORMATION: Pursuant to the Federal Advisory Committee Act (5 U.S.C. App.), notice is hereby given that the Department of Agriculture, in consultation with the Department of the Interior, intends to re-establish the Provincial Advisory Committees (PACs), which will advise the Provincial Interagency Executive Committee (PIEC). The purpose of the PIEC is to facilitate the coordinated implementation of the ROD of April 13, 1994, for Management of Habitat for Late-Succession and Old-Growth Forest Related Species within the Range of the Northern Spotted Owl. The PIEC consists of representatives of the following Federal agencies: Forest Service, Natural Resources Conservation Service, Bureau of Indian Affairs, Bureau of Land Management, National Marine Fisheries Service, National Park Service, U.S. Fish and Wildlife Service, U.S. Geological Survey Biological Resources Division, Environmental Protection Agency, and U.S. Army Corps of Engineers.

Ecosystem management at the province level requires improved coordination among governmental entities responsible for land management decisions and the public those agencies serve. Each PAC will provide advice and recommendations regarding implementation to promote integration and coordination of forest management activities between Federal and non-Federal entities. Each PAC will provide advice regarding implementation of a comprehensive ecosystem management strategy for Federal land within a province (provinces are defined in the ROD at E19).

The chair of each PAC will alternate annually between representatives of the Forest Service and the Bureau of Land Management. When the Bureau of Land Management is not represented on the PIEC, the Forest Service representative will serve as chair. The chair, or a designated agency employee, will serve as the Designated Federal Officer under sections 10(e) and (f) of the Federal Advisory Committee Act (5 U.S.C. App.). Any vacancies on the committee will be filled in the manner in which the original appointment was made.

A meeting notice will be published in the Federal Register within 15 to 45 days before a scheduled meeting date. All meetings are generally open to the public and may include a “public forum” that may offer 5-10 minutes for participants to present comments to the advisory committee. Alternates may choose not to be active during this session on the agenda. The chair of the given committee ultimately makes the decision whether to offer time on the agenda for the public to speak to the general body.

Re-establishment of the PACs does not require an amendment of Bureau of Land Management or Forest Service planning documents because the re-establishment does not affect the standards and guidelines or land allocations. The Bureau of Land Management and Forest Service will provide further notice, as needed, for additional actions or adjustments when implementing interagency coordination, public involvement, and other aspects of the ROD.

Equal opportunity practices will be followed in all appointments to the advisory committee. To ensure that the recommendations of the PACs have taken into account the needs of diverse groups served by the Departments, membership will, to the extent practicable, include individuals with demonstrated ability to represent minorities, women, and persons with disabilities.

Dated: April 4, 2011.
Pearlie S. Reed.
Assistant Secretary for Administration.

[FR Doc. 2011-11987 Filed 5-16-11; 8:45 am]

BILLING CODE 3410-11-P